DEPARTMENT OF TRANSPORTATION

Federal Aviation Administration

14 CFR Part 39

[Docket No. FAA-2008-0842; Directorate Identifier 2008-NE-24-AD]

RIN 2120-AA64

Airworthiness Directives; Bombardier-Rotax GmbH 914 F Series Reciprocating Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as:

Occurrence of cracks in the exhaust muffler in the area of the exhaust bottom and exhaust flange were reported, which could lead to toxic contamination inside the cabin.

We are proposing this AD to prevent carbon monoxide contamination in the cockpit, which can adversely affect the pilot, and possibly result in loss of control of the aircraft.

DATES: We must receive comments on this proposed AD by October 14, 2008.

ADDRESSES: You may send comments by any of the following methods:

• Federal eRulemaking Portal: Go to http://www.regulations.gov and follow the instructions for sending your comments electronically.

• Mail: Docket Management Facility, U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is the same as the Mail address provided in the ADDRESSES section. Comments will be available in the AD docket shortly after receipt.

FOR FURTHER INFORMATION CONTACT: Richard Woldan, Aerospace Engineer, Engine Certification Office, FAA, Engine and Propeller Directorate, 12 New England Executive Park; Burlington, MA 01803; telephone (781) 238-7136; fax (781) 238-7199.

SUPPLEMENTARY INFORMATION:

Comments Invited

We invite you to send any written relevant data, views, or arguments about this proposed AD. Send your comments to an address listed under the ADDRESSES section. Include “Docket No. FAA-2008-0842; Directorate Identifier 2008-NE-24-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

The European Aviation Safety Agency (EASA), which is the Technical Agent for the Member States of the European Community, has issued EASA Airworthiness Directive 2006-0127, dated May 18, 2006 (referred to after this as “the MCAI”), to correct an unsafe condition for the specified products. The MCAI states:

Occurrence of cracks in the exhaust muffler in the area of the exhaust bottom and exhaust flange were reported, which could lead to toxic contamination inside the cabin.

You may obtain further information by examining the MCAI in the AD docket.

Relevant Service Information

Bombardier-Rotax GmbH has issued Service Bulletin SB-914-028 R1, dated November 8, 2004. The actions described in this service information are intended to correct the unsafe condition identified in the MCAI.

FAA's Determination and Requirements of This Proposed AD

This product has been approved by the aviation authority of Austria, and is approved for operation in the United States. Pursuant to our bilateral agreement with Austria, they have notified us of the unsafe condition described in the MCAI and service information referenced above. We are proposing this AD because we evaluated all information provided by Austria and determined the unsafe condition exists and is likely to exist or develop on other products of the same type design.

Costs of Compliance

Based on the service information, we estimate that this proposed AD would affect about 75 products of U.S. registry. We also estimate that it would take about 2 work-hours per product to comply with this proposed AD. The average labor rate is $80 per work-hour. Required parts would cost about $1,674 per product. Based on these figures, we estimate the cost of the proposed AD on U.S. operators to be $137,550. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier-Rotax GmbH: (Formerly Rotax GmbH): Docket No. FAA-2008-0842; Directorate Identifier 2008-NE-24-AD.

Comments Due Date

(a) We must receive comments by October 14, 2008.

Affected Airworthiness Directives (ADs)

(b) None.

Applicability

(c) This AD applies to Bombardier-Rotax GmbH 914 F series reciprocating engines with engine exhaust muffler, part number (P/N) 979402 or 979404, with serial numbers (SNs) listed in Table 1 of this AD, installed. These engines are installed on, but not limited to, Aeromot-Industria Mecanico Metalurgica, AMT-300 (Turbo Ximango Shark), Diamond Aircraft Industries, HK 36 TTS, HK 36 TTC, HK 36 TTC-ECO, and Stemme GmbH & Co. KG, S10-VT series powered sailplanes.

Table 1—Affected Exhaust Mufflers by Group, P/N, and SN
Group | P/N | SN
(1) A | 979402 | 02.0001 through 02.0322, 03.0002, 03.0005, 03.0011, 03.0015, 03.0017, 03.0028, 03.0029, 03.0037, 03.0038, 03.0040, 03.0050, 03.0069, 03.0072, 03.0073, 03.0078, 03.0080 through 03.0086, 03.0088 through 03.0090, 03.0092 through 03.0101, 03.0103, and 03.0108.
(2) B | 979402 | 03.0001, 03.0003, 03.0004, 03.0006, 03.0007 through 03.0010, 03.0012 through 03.0014, 03.0016, 03.0018 through 03.0027, 03.0030 through 03.0036, 03.0039, 03.0041 through 03.0049, 03.0051 through 03.0068, 03.0070, 03.0071, 03.0074 through 03.0077, 03.0079, 03.0087, 03.0091, 03.0102, and 03.0104 through 03.0107.
| 979404 | 03.0200 through 04.0799.

Reason

(d) Occurrence of cracks in the exhaust muffler in the area of the exhaust bottom and exhaust flange were reported, which could lead to toxic contamination inside the cabin.

We are proposing this AD to prevent carbon monoxide contamination in the cockpit, which can adversely affect the pilot, and possibly result in loss of control of the aircraft.

Actions and Compliance

(e) You are responsible for having the actions required by this AD performed within the compliance times specified unless the actions have already been done.

Initial Visual Inspection

Group A Exhaust Mufflers

(f) For exhaust mufflers specified in Group A of Table 1 of this AD, within 50 hours of operation after the effective date of this AD, do the following:

(1) Perform a visual inspection around the fillet weld of the exhaust inlet flange and around the weld of the exhaust outlet for evidence of leakage or cracks. Information on inspecting the exhaust muffler can be found in Bombardier-Rotax GmbH 914 F Service Bulletin SB-914-028 R1, dated November 8, 2004.

(2) If you see evidence of an exhaust leak or cracks, replace the exhaust muffler.

Group B Exhaust Mufflers

(g) For exhaust mufflers specified in Group B of Table 1 of this AD, within 50 hours of operation after the effective date of this AD, do the following:

(1) Perform a visual inspection around the weld of the exhaust outlet for evidence of leakage or cracks. Information on inspecting the exhaust muffler can be found in Bombardier-Rotax GmbH 914 F Service Bulletin SB-914-028 R1, dated November 8, 2004.

(2) If you see evidence of an exhaust leak or cracks, replace the exhaust muffler.

Repetitive Visual Inspections

(h) Within 50 hours of operation since the last inspection, perform the actions specified in paragraphs (f)(1) through (f)(2) and (g)(1) through (g)(2) of this AD.

FAA AD Differences

(i) None.

Other FAA AD Provisions

(j) Alternative Methods of Compliance (AMOCs): The Manager, Engine Certification Office, FAA, has the authority to approve AMOCs for this AD, if requested using the procedures found in 14 CFR 39.19.

Related Information

(k) Refer to MCAI EASA Airworthiness Directive 2006-0127, dated May 18, 2006, and Bombardier-Rotax GmbH 914 F Service Bulletin SB-914-028 R1, dated November 8, 2004, for related information.

(l) Contact Richard Woldan, Aerospace Engineer, Engine Certification Office, FAA, Engine and Propeller Directorate, 12 New England Executive Park, Burlington, MA 01803, telephone (781) 238-7136; fax (781) 238-7199, for more information about this AD.

Issued in Burlington, Massachusetts, on September 5, 2008.
Peter A. White,
Assistant Manager, Engine and Propeller Directorate, Aircraft Certification Service.

[FR Doc. E8-21282 Filed 9-11-08; 8:45 am]

BILLING CODE 4910-13-P